DEPARTMENT OF JUSTICE

[CPCLO Order No. 001-2017]

Privacy Act of 1974; Systems of Records; Correction

AGENCY: United States Department of Justice.

ACTION: Notice; correction.

SUMMARY: The Department of Justice (Department or DOJ) published a notice in the Federal Register, 82 FR 25812, on June 5, 2017, concerning a System of Records Notice (SORN) for a new DOJ system of records titled, “DOJ Insider Threat Program Records (ITPR),” JUSTICE/DOJ-018. The document contains two incorrect SORN reference numbers. References to JUSTICE/DOJ-001 should be replaced by JUSTICE/DOJ-018.

FOR FURTHER INFORMATION CONTACT: Beth Zelman, Attorney Advisor, 202-305-9318.

Correction:

In the Federal Register of June 5, 2017, in FR Doc. 2017-11445, on page 25813, in the SORN title and the “SYSTEM NAME AND NUMBER” section, correct the DOJ SORN reference number to read:

JUSTICE/DOJ-018

SYSTEM NAME AND NUMBER:

DOJ Insider Threat Program Records (ITPR), JUSTICE/DOJ-018.

Dated: June 12, 2017.
Peter A. Winn,
Acting Chief Privacy and Civil Liberties Officer, United States Department of Justice.

[FR Doc. 2017-12703 Filed 6-16-17; 8:45 am]

BILLING CODE 4410-NW-P